DEPARTMENT OF ENERGY

Federal Energy Regulatory Commission

[Docket No. CP03-300-000]

Columbia Gas Transmission Corporation; Notice of Intent To Prepare an Environmental Assessment for the Proposed Laurel Storage Field Pipeline Abandonment and Request for Comments on Environmental Issues

June 10, 2003.

The staff of the Federal Energy Regulatory Commission (FERC or Commission) will prepare an environmental assessment (EA) that will discuss the environmental impacts of the Laurel Storage Field Pipeline Abandonment proposed by Columbia Gas Transmission Corporation (Columbia) in Hocking County, Ohio.¹ Columbia proposes to abandon in place approximately 1.3 miles of 12-inch-diameter pipeline that is no longer in use. The one storage well that was connected to the pipe segment proposed for abandonment was connected to a short crossover line built in 2002 pursuant to Columbia's Blanket Certificate. This EA will be used by the Commission in its decision-making process to determine whether the project is in the public convenience and necessity.

¹ Columbia's application was filed with the Commission under Section 7 of the Natural Gas Act and Part 157 of the Commission's regulations.

Summary of the Proposed Project

Columbia wants to abandon certain facilities in Hocking County, Ohio. Columbia seeks authority to abandon:

• Approximately 1.3 miles of 12-inch-diameter pipeline, in place;

• Remove three service tap risers from previously relocated residential taps;

• Remove the road casing and carrier pipe segment under State Route 374; and

• Cut and cap each end of the abandoned pipe segment.

The general location of the project facilities is shown in appendix 1.²

² The appendices referenced in this notice are not being printed in the Federal Register. Copies of all appendices, other than appendix 1 (maps), are available on the Commission's Web site at the “FERRIS” link or from the Commission's Public Reference and Files Maintenance Branch, 888 First Street, NE., Washington, DC 20426, or call (202) 502-8371. For instructions on connecting to FERRIS refer to the last page of this notice. Copies of the appendices were sent to all those receiving this notice in the mail.

Land Requirements for Construction

Abandonment of the proposed facilities would require disturbance of about 0.02 acre of land. Three small dig-outs (4 × 4 × 4 feet each) are proposed to remove risers from previously relocated residential taps. The road casing and carrier pipe segment under and across State Route 374 would be removed, requiring two disturbance areas of 40 × 10 × 4 feet and 15 × 10 × 4 feet. The line would be cut and capped at each end of the abandonment, requiring two disturbance areas of 10 × 10 × 10 feet each. The 0.02 acre of land would be restored and allowed to revert to its former use. Columbia does not propose to abandon the right-of-way.

The EA Process

The National Environmental Policy Act (NEPA) requires the Commission to take into account the environmental impacts that could result from an action whenever it considers the issuance of a Certificate of Public Convenience and Necessity. NEPA also requires us ³ to discover and address concerns the public may have about proposals. This process is referred to as “scoping”. The main goal of the scoping process is to focus the analysis in the EA on the important environmental issues. By this Notice of Intent, the Commission requests public comments on the scope of the issues it will address in the EA. All comments received are considered during the preparation of the EA. State and local government representatives are encouraged to notify their constituents of this proposed action and encourage them to comment on their areas of concern.

³ ”We”, “us”, and “our” refer to the environmental staff of the Office of Energy Projects (OEP).

The EA will discuss impacts that could occur as a result of the construction and operation of the proposed project under these general headings:

• Geology and soils

• land use

• Water resources and fisheries

• cultural resources

• Vegetation and wildlife

• air quality and noise

• Endangered and threatened species

• Public safety

We will not discuss impacts to the following resource areas since they are not present in the project area, or would not be affected by the proposed facilities.

• Wetlands

• Hazardous waste

We will also evaluate possible alternatives to the proposed project or portions of the project, and make recommendations on how to lessen or avoid impacts on the various resource areas.

Our independent analysis of the issues will be in the EA. Depending on the comments received during the scoping process, the EA may be published and mailed to Federal, state, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section below.

Public Participation

You can make a difference by providing us with your specific comments or concerns about the project. By becoming a commentor, your concerns will be addressed in the EA and considered by the Commission. You should focus on the potential environmental effects of the proposal, alternatives to the proposal, and measures to avoid or lessen environmental impact. The more specific your comments, the more useful they will be. Please carefully follow these instructions to ensure that your comments are received in time and properly recorded:

• Send an original and two copies of your letter to: Magalie R. Salas, Secretary, Federal Energy Regulatory Commission, 888 First St., NE., Room 1A, Washington, DC 20426.

• Label one copy of the comments for the attention of Gas Branch 3.

• Reference Docket No. CP03-300-000.

• Mail your comments so that they will be received in Washington, DC on or before July 10, 2003.

Please note that we are continuing to experience delays in mail deliveries from the U.S. Postal Service. As a result, we will include all comments that we receive within a reasonable time frame in our environmental analysis of this project. However, the Commission strongly encourages electronic filing of any comments or interventions or protests to this proceeding. See 18 CFR 385.2001(a)(1)(iii) and the instructions on the Commission's Wb site at http://www.ferc.gov under the “e-Filing” link and the link to the User's Guide. Before you can file comments you will need to create a free account which can be created by clicking on “Login to File” and then “New User Account.”

We may mail the EA for comment. If you are interested in receiving it, please return the Information Request (appendix 4). If you do not return the Information Request, you will be taken off the mailing list.

Becoming an Intervenor

In addition to involvement in the EA scoping process, you may want to become an official party to the proceeding known as an “intervenor”. Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR 385.214) (see appendix 2).⁴ Only intervenors have the right to seek rehearing of the Commission's decision.

⁴ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your environmental comments considered.

Environmental Mailing List

This notice is being sent to individuals, organizations, and government entities interested in and/or potentially affected by the proposed project. It is also being sent to all identified right-of-way grantors. By this notice we are also asking governmental agencies to express their interest in becoming cooperating agencies for the preparation of the EA.

Additional Information

Additional information about the project is available from the Commission's Office of External Affairs, at 1-866-208-FERC or on the FERC Internet Web site (http://www.ferc.gov) using the FERRIS link. Click on the FERRIS link, enter the docket number excluding the last three digits in the Docket Number field. Be sure you have selected an appropriate date range. For assistance, contact FERC Online Support at FERCOnlineSupport@ferc.gov or toll-free at (866)208-3676, or for TTY, contact (202)502-8659. The FERRIS link on the FERC Internet Web site also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Magalie R. Salas,
Secretary.

[FR Doc. 03-15169 Filed 6-16-03; 8:45 am]

BILLING CODE 6717-01-P